DEPARTMENT OF COMMERCE

International Trade Administration

[A-475-829]

Stainless Steel Bar from Italy: Notice of Rescission of Antidumping Duty Administrative Review

AGENCY: Import Administration, International Trade Administration, Department of Commerce.

EFFECTIVE DATE: August 13, 2007.

FOR FURTHER INFORMATION CONTACT: David Neubacher, AD/CVD Operations, Office 1, Import Administration, International Trade Administration, U.S. Department of Commerce, 14th Street and Constitution Avenue, NW, Washington DC 20230; telephone (202) 482-5823.

SUPPLEMENTARY INFORMATION:

Background

On March 2, 2007, the Department of Commerce (“the Department”) published in the Federal Register the Antidumping or Countervailing Duty Order, Finding, or Suspended Investigation; Opportunity To Request Administrative Review, 72 FR 9505 (March 2, 2007), for the March 1, 2006, through February 28, 2007, administrative review of the antidumping duty order on stainless steel bar from Italy. On April 2, 2007, the Department received a timely filed request for review from Acciaierie Valbruna S.p.A. (“Valbruna”). On April 27, 2007, the Department published in the Federal Register the Initiation of Antidumping and Countervailing Duty Administrative Reviews, 72 FR 20986 (April 27, 2007), in which the Department initiated the administrative review of stainless steel bar from Italy.

Rescission of Antidumping Administrative Review

On June 25, 2007, we received a timely filed submission from Valbruna withdrawing its request for an administrative review. Valbruna filed its withdrawal request within the deadline established by section 351.213(d)(1) of the Department's regulations. No other parties have requested a review of Valbruna or any other producer or exporter of the subject merchandise. Therefore, we are rescinding the above-cited administrative review in accordance with 19 CFR 351.213(d)(1).

Assessment

The Department will instruct U.S. Customs and Border Protection (“CBP”) to assess antidumping duties on all appropriate entries. For the company for which this review is rescinded, antidumping duties shall be assessed at rates equal to the cash deposit of estimated antidumping duties required at the time of entry, or withdrawal from warehouse, for consumption, in accordance with 19 CFR 351.212(c)(1)(i). The Department will issue appropriate assessment instructions directly to CBP 15 days after publication of this notice.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i) of the Tariff Act of 1930, as amended, and 19 CFR 351.213(d)(4).

Dated: August 6, 2007.
Gary Taverman,
Acting Deputy Assistant Secretary for Import Administration.

[FR Doc. E7-15805 Filed 7-10-07; 8:45 am]

BILLING CODE 3510-DS-S